DEPARTMENT OF LABOR

Employment and Training Administration

Job Corps: Preliminary finding of No significant impact (FONSI) for the Proposed Acquisition of the Property Located at 515 South First Street and 118 East Lincoln Street, Phoenix, AZ

AGENCY: Employment and Training Administration, Labor.

ACTION: Preliminary finding of no significant impact (FONSI) for the proposed acquisition of the property located at 515 South First Street and 118 East Lincoln Street, Phoenix, Arizona.

SUMMARY: Pursuant to the Council on Environmental Quality Regulations (CEQ) (40 CFR part 1500-08) implementing procedural provision of the National Environmental Policy Act (NEPA), the Employment and Training Administration (ETA) of the Department of Labor (DOL), Office of the Job Corps, in accordance with 29 CFR 11.11(d), gives notice that an Environmental Assessment (EA) has been prepared and the proposed acquisition of the property located at 515 South First Street and 118 East Lincoln Street, Phoenix, Arizona, will have no significant environmental impact, and this Preliminary Finding of No Significant Impact (FONSI) will be made available for public review and comment for a period of 30 days.

DATES: Written comments must be received by August 26, 2002.

ADDRESSES: Any comments are to be submitted to Michael F. O'Malley, Employment and Training Administration, Department of Labor, 200 Constitution Avenue, NW., Room N-4460, Washington, DC 20210, (202) 693-3108 (this is not a toll-free number).

FOR FURTHER INFORMATION CONTACT: Copies of the EA and additional information are available to interested parties by contacting Michael F. O'Malley, Architect, US Department of Labor, Employment and Training Administration, 200 Constitution Avenue, NW., Room N-4460, Washington, DC 20210, (202) 693-3108 (this is not a toll-free number).

SUPPLEMENTARY INFORMATION: The Department of Labor is proposing to acquire a 42,000 square foot property at 515 South First Street and 118 East Lincoln Street, Phoenix, Arizona in order to consolidate the Phoenix Job Corp Center operations, currently located both east and west of the proposed site, into a more campus-like setting. Acquiring this piece of property would allow this consolidation by eliminating the need for a current leased piece of property that is used for teaching and support of the “hard vocation” trades such as carpentry, building maintenance, electronic assembly, painting, cement masonry, and plastering. The “hard vocations” would relocate to the new property. The existing structures on the site would be modified and used as classroom, shop, and support space. This consolidation would also allow trainees at the facility to have safer and closer access for training in an area where high traffic volumes can pose safety concerns. Property dimensions would allow expansion or additions to the existing buildings in the future; however, no plans exist at this time for these expansions.

The purpose and need for the U.S. Department of Labor's acquisition of this property is to eliminate the need for a current lease and accommodate the relocation of the existing classroom, shop, and support space used by the “hard vocations” program. The newly acquired property would also provide room for building expansion in the future.

General environmental conditions and potential impacts were evaluated for the proposed site and a general 0.5-mile study radius surrounding the site.

The area immediately surrounding the project area (0.5-mile study area) is a diverse mix of commercial, industrial, and residential areas. The residential areas contain a young and diverse population. The acquisition of the proposed property is not expected to have any negative impacts on the demographics of the surrounding area. The purpose of the Job Corps is to provide basic education, vocational skills training, health care, and work experience to allow disadvantaged persons from the Phoenix area to improve their position in the workplace and society. Initially, the property will only be used for classroom, shop, and support space; however, in the long term, the property will allow the center the flexibility for possible facility expansion which would provide more educational opportunities for the disadvantaged youth in the downtown area. Thus, the addition of this parcel to the Job Corps campus is expected to have a positive impact on the lives of disadvantaged youths living in Phoenix and specifically the diverse downtown area.

The acquisition of the proposed property is not expected to have any negative impacts on any of the facilities, services, or existing infrastructure in the surrounding study area. The buildings on the proposed project site will be converted to classroom, shop, and support space, taking the place of rented space with the same function, and thus would not pose any additional strain to the public services, such as the police, fire departments, or medical facilities. Future development of the site would be beneficial to the surrounding neighborhood and any additional need for infrastructure or public services would cause only a negligible impact on the departments or services in the area. The existing schools, libraries, parks, and transportation facilities are not expected to be impacted by the acquisition of this property. Local streets and transit facilities are more than adequate to facilitate the current use of the site and any proposed future development of the parcel.

The proposed project is not expected to have any negative impacts on land use or the surrounding residential communities. The acquisition of the property would be compatible with current land uses in the area including industrial, commercial, and residential. Additionally, the consolidation of the Job Corps facilities to a more campus-like environment would be a responsible and efficient use of space.

Residential communities in the area, located generally south of the property, would not be impacted by the acquisition and use of this property. The presence of the Job Corps program in the area is a positive catalyst for the education of the youth in the area and revitalization of the surrounding residential communities, which are consistent with neighborhood goals.

The acquisition of the proposed project property is not expected to have any negative impacts on air quality in the Phoenix metropolitan area. The Phoenix metropolitan area is currently in non-attainment of the 24-hour and annual health-based standard for particulate matter. If the buildings on the site are expanded or further developed in the future, short-term impacts may occur due to construction disturbance and clearing (dust). Such impacts would be localized and short-term in duration. The construction contractor should follow industry standards for minimizing dust and particulates at construction sites.

The acquisition of this property is not expected to have any negative impacts on the geology, soils, and/or water resources in the study area. The existing buildings will be modified for use as classroom, shop, and support space, which should not result in any impacts on the surface or subsurface of the property, including groundwater. If the buildings are expanded or property is further developed in the future, the expansions should not result in any negative impacts on the surface or subsurface, including groundwater.

The proposed project site is located in a light industrial, downtown setting. Current, typical sources of noise on the site include traffic from local streets, ambient noise from local businesses and educational facilities, and railroad traffic north of the site. Potentially sensitive receptors in the area consist of one church facility located approximately 500 feet to the south of the proposed property. The proposed modifications to the site are not expected to increase noise levels in excess of the current conditions, and thus the acquisition of the proposed site is not expected to have any negative impacts on the noise in the area. Any future development on the site, such as building expansions, would more than likely create construction noise; however, this noise would be of short duration.

Acquisition of the proposed property for the intended purpose would not result in adverse impacts on the visual environment. There is an opportunity to improve the aesthetics of this property as it is developed into a campus-like learning center.

The project site is currently an industrial site used for cold storage of foodstuffs with no vegetation resources within the project site boundary. Landscaped vegetation near Lincoln Street will not be impacted. The proposed action will result in little to no impacts on vegetation resources.

Potential impacts on wildlife are expected to be low. For small mammals and birds, mainly rodents and pigeons, some habitat loss as well as loss of individuals (chiefly small mammals) will occur if and when the site is developed. Project disturbances (i.e., construction), although locally intense, would be temporary. No riparian or wetland areas occur within the project site or study area. Therefore, there will be no impacts on riparian and wetland vegetation. No endangered or threatened species are expected to occur in the study area. If any special status species is observed, necessary mitigation measures will be developed in coordination with USFWS and the Arizona Game and Fish Department.

The proposed acquisition of the project property and interior modifications of the two buildings on the project site are expected to have no adverse effect on any archaeological or historical properties listed on or eligible for the National Register. Thus, there should be no significant impacts as defined by NEPA, nor any cumulative impacts. Any future expansion of the existing buildings or construction of new facilities on the project site has potential to directly affect archaeological resources that may be buried on the project site and indirectly affect adjacent historic buildings. A plan for archaeological testing may need to be developed and implemented, and subsequent data recovery studies might be required to mitigate any identified adverse effects. Consideration also may need to be given to designing any modification or new construction to minimize any potential for adverse visual effects or any other types of indirect effects to nearby historic resources listed on or eligible for the National Register. It seems likely that any identified adverse effects of future development could be satisfactorily mitigated through studies to recover important archaeological data or by sensitive project design. Therefore no significant impacts, as defined by NEPA, are projected.

Based on information gathered in the preparation of the EA, negative impacts on the surrounding environment are not anticipated to be associated with this project. However, appropriate consideration to surrounding cultural and historic resources should be handled according to Section 106 of NHPA and any other applicable regulations. Mitigation for any possible impacts should be possible through archaeological studies and project design. Similarly, if any special status species is observed, necessary mitigation measures will be developed in coordination with USFWS and the Arizona Game and Fish Department.

Dated this 19th day of July, 2002.
Richard C. Trigg,
National Director of Job Corps.

[FR Doc. 02-18872 Filed 7-24-02; 8:45 am]

BILLING CODE 4510-30-P